DEPARTMENT OF DEFENSE

Department of the Army

[Docket ID: USA-2011-0012]

Privacy Act of 1974; System of Records

AGENCY: Department of the Army, DoD.

ACTION: Notice to alter a system of records.

SUMMARY: Department of the Army is altering a system of records notice in its existing inventory of record systems subject to the Privacy Act of 1974 (5 U.S.C. 552a), as amended.

DATES: This proposed action will be effective without further notice on July 18, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: Department of the Army notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on June 7, 2011 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: June 7, 2011.
Aaron Siegel,
Alternate OSD Federal Register Liaison Officer, Department of Defense.

A0351b TRADOC DoD

System name:

Army Correspondence Course Program (ACCP) (July 25, 2008, 73 FR 43420).

Changes:

System Name:

Delete entry and replace with “Army Training Information Architecture—Learning Management System (ATIA-LMS).”

* * * * *

Authority for maintenance of the system:

Delete entry and replace with “10 U.S.C. 3013, Secretary of the Army; Army Regulation 350-1, Army Training and Leader Development; Army Regulation 350-10, Management of Army Individual Training Requirements and Resources; and E.O. 9397 (SSN), as amended.”

* * * * *

Safeguards:

Delete entry and replace with “The system is hosted on an Army installation, in a secure environment at the Training Capability Manager—Army Training Information System (TCM-ATIS). Building security is through Police patrols, installation fences, key card access, building-server room alarms and cameras. System access is through the Directorate of Information Management's (DOIM's) firewall. Servers are frequently scanned and comply with current Security Technical Implementation Guides (STIGS) which ensures proper security settings. Each user requires a user ID and password (which has to be changed each 90 days). Direct access to the database is restricted to authorized System Administrators (SAs) only. Server access is controlled by IP address. System is accessible world-wide. Servers are located in a cipher locked room and access is controlled by the SA.”

* * * * *

System manager(s) and address:

Delete entry and replace with “Commander, Army Training Support Center, Building 2114, Pershing Avenue, Fort Eustis, VA 23604-5166.”

Notification procedure:

Delete entry and replace with “Individuals seeking to determine whether information about themselves is contained in this system should address written inquiries to the Commander, U.S. Army Training Support Center, Building 2114, Pershing Avenue, Fort Eustis, VA 23604-5166.

Individual must furnish his/her full name, Social Security Number (SSN), current address and telephone number, and military status or other information verifiable from the record itself which may assist in locating the record, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Commander, U.S. Army Training Support Center, Building 2114, Pershing Avenue, Fort Eustis, VA 23604-5166.

Individual must furnish his/her full name, Social Security Number (SSN), current address and telephone number, and military status or other information verifiable from the record itself which may assist in locating the record, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0351b TRADOC DoD

System name:

Army Training Information Architecture—Learning Management System (ATIA-LMS).

System location:

Commander, U.S. Army Training Support Center, 3308 Wilson Avenue, Fort Eustis, VA 23604-5166.

Categories of individuals covered by the system:

Members of the Army, Navy, Marine Corps, and Air Force, Reserve Officer Training Corps and National Defense Cadet Corps students, Department of Defense civilian employees, and approved foreign military personnel enrolled in a non-resident course administered by the Army Institute for Professional Development.

Categories of records in the system:

Files contain name, grade/rank, Social Security Number (SSN), address, service component, branch, personnel classification, military occupational specialty, credit hours accumulated, examination and lesson grades, student academic status, curricula, course description.

Authority for maintenance of the system:

10 U.S.C. 3013, Secretary of the Army; Army Regulation 350-1, Army Training and Leader Development; Army Regulation 350-10, Management of Army Individual Training Requirements and Resources; and E.O. 9397 (SSN), as amended.

Purpose(s):

To record lessons and/or exam grades; maintain student academic status; course and sub-course descriptions; produce course completion certificates and reflect credit hours earned; and produce management summary reports.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Electronic storage media.

Retrievability:

By name and Social Security Number (SSN).

Safeguards:

The system is hosted on an Army installation, in a secure environment at the Training Capability Manager—Army Training Information System (TCM-ATIS). Building security is through Police patrols, installation fences, key card access, building-server room alarms and cameras. System access is through the Directorate of Information Management's (DOIM's) firewall. Servers are frequently scanned and comply with current Security Technical Implementation Guides (STIGS) which ensures proper security settings. Each user requires a user ID and password (which has to be changed each 90 days). Direct access to the database is restricted to authorized System Administrators (SAs) only. Server access is controlled by IP address. System is accessible world-wide. Servers are located in a cipher locked room and access is controlled by the SA.

Retention and disposal:

Student records indicating courses attended, course length, extent of completion, results, aptitudes and personal qualities, grade, rating attained and related information destroy after 40 years. Records of extension courses will be held for 3 years in current file area and 2 years in records holding area before retirement to National Personnel Records Center, 9700 Page Avenue, St. Louis, MO 63132-5100.

System manager(s) and address:

Commander, Army Training Support Center, Building 2114, Pershing Avenue, Fort Eustis, VA 23604-5166.

Notification procedure:

Individuals seeking to determine whether information about themselves is contained in this system should address written inquiries to the Commander, U.S. Army Training Support Center, Building 2114, Pershing Avenue, Fort Eustis, VA 23604-5166.

Individual must furnish his/her full name, Social Security Number (SSN), current address and telephone number, and military status or other information verifiable from the record itself which may assist in locating the record, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Commander, U.S. Army Training Support Center, Building 2114, Pershing Avenue, Fort Eustis, VA 23604-5166.

Individual must furnish his/her full name, Social Security Number (SSN), current address and telephone number, and military status or other information verifiable from the record itself which may assist in locating the record, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, contesting content, and appealing initial agency determinations are contained in Army Regulation 340-21; 32 CFR part 505; or may be obtained from the system manager.

Record source categories:

From individual upon enrollment, from class records and instructors, and from graded examinations.

Exemptions claimed for the system:

None.

[FR Doc. 2011-14935 Filed 6-15-11; 8:45 am]

BILLING CODE 5001-06-P